DEPARTMENT OF HEALTH AND HUMAN SERVICES

Centers for Disease Control and Prevention

[Announcement Number 00087]

Cooperative Agreement Between CDC and ASTHO; Tobacco Control Information and Resource Network (ASTHO)

A. Purpose

The Centers for Disease Control and Prevention (CDC) announces the availability of funds in fiscal year (FY) 2000 for a cooperative agreement with the Association of State and Territorial Health Officials (ASTHO) to enhance its capacity to provide information and technical assistance to State Health Officials (SHOs) and affiliate member groups. CDC is committed to achieving the health promotion and disease prevention objectives of “Healthy People 2010,” a national activity to reduce morbidity and mortality and improve the quality of life. This announcement is related to the focus areas of Tobacco use and the areas related to chronic disease prevention and control. For the conference copy of “Healthy People 2010”, visit the Internet site: <http://www.health.gov/healthypeople>.

The purpose of this program is to address issues related to:

1. Tobacco-use prevention and control programs;

2. The following four goal areas outlined in CDC's National Tobacco Control Program:

a. Eliminate exposure to environmental tobacco smoke;

b. Promote quitting among young people and adults;

c. Prevent initiation among young people; and

d. Identify and eliminate disparities among population groups);

3. Maintain a forum where State tobacco control managers can communicate among themselves and with SHOs and ASTHO affiliates about tobacco-related issues impacting their States; and,

4. Chronic disease prevention and control programs as they relate to tobacco use prevention and control.

B. Eligible Applicant

Assistance will be provided only to ASTHO. No other applications are solicited.

ASTHO is the only organization that represents all State and territorial public health officials, including a network of State health department tobacco-control representatives.

ASTHO was created specifically to represent this group of State agencies to the Federal government and other national organizations and is unique in its role as a liaison among these officials. It has served as a capacity-building organization in public health matters for many years and one of its major objectives is the sharing of information among State health departments.

ASTHO has established a unique network of public health professionals in each State and territory who are concerned with tobacco-use and chronic disease prevention and control programs. ASTHO has maintained active involvement in tobacco-related issues through their Tobacco Control Resource Council. The Resource Council has: (1) Developed a network of tobacco-control representatives representing the ten U.S. Public Health Service Regions, (2) conducted regular mailings and communications with State health officials, and (3) coordinated activities between Federal agencies and States.

Note: Public Law 104-65 states that an organization described in section 501(c)(4) of the Internal Revenue Code of 1986 that engages in lobbying activities is not eligible to receive Federal funds constituting an award, grant, cooperative agreement, contract, loan or any other form.

C. Availability of Funds

Approximately $350,000 is available in FY 2000 to fund this award. It is expected that the award will be made on or about July 1, 2000, and will be made for a 12-month budget period within a project period of up to 5 years. Funding estimates may change.

Continuation awards within the approved project period will be made on the basis of satisfactory progress as evidenced by required reports and the availability of funds.

D. Program Requirements

In conducting activities to achieve the purpose of this program, the recipient will be responsible for the activities under 1. (Recipient Activities), and CDC will be responsible for the activities under 2. (CDC Activities):

1. Recipient Activities

a. Advance comprehensive tobacco and chronic disease prevention and control programs.

(1) Promote and foster support for comprehensive tobacco and chronic disease prevention and control programs to raise tobacco and chronic disease prevention and control as a priority within ASTHO and among State health officials, affiliates, and other key partners.

(2) Identify and develop opportunities to promote successful State health department tobacco and chronic disease prevention and control efforts at ASTHO's regional and national meetings.

(3) Provide opportunities, in regional and national forums, where health officials and other key decisionmakers can discuss and develop policy positions on tobacco use and chronic disease prevention and control issues.

(4) Maintain liaison with the National Association of City and County Health Officials (NACCHO), the National Association of Local Boards of Health (NALBOH), and other national public health organizations interested in tobacco, chronic disease and health to encourage support for comprehensive tobacco and chronic disease prevention and control programs.

(5) Coordinate communication between the Tobacco Resource Council and ASTHO affiliates to foster communication between tobacco control program managers and affiliates regarding State tobacco control efforts. Disseminate state-based summaries of these efforts to SHOs, affiliates and other partners on a regular basis.

b. Identify and promote opportunities to educate State Health Officials and affiliate member leadership programs, as well as, guidelines and “Best Practices” for comprehensive tobacco control programs, as well as, about guidelines and recommendations related to chronic disease prevention and control. This could include use of state-of-the-art technologies such as distance-based learning, web-based information exchange forums, and skill building conferences/workshops.

c. Provide staff support to the ASTHO Tobacco Resource Council to facilitate information exchange and problem solving among tobacco control program managers in every region (10 U.S. Public Health Service Regions and the Pacific Islands).

d. Identify opportunities for ASTHO affiliates to work collaboratively with the Tobacco Resource Council to develop, support and/or implement comprehensive tobacco control programs.

e. Monitor the implementation of the ASTHO Policy on Tobacco Use Prevention and Control. Monitor current events and, as appropriate, share information with States and collaborating agencies. Before undertaking any data collection efforts, conduct an assessment of data available through other sources.

f. Maintain a mechanism (e.g., website, e-mail updates, newsletter), for sharing timely information about tobacco-related issues with SHOs, State tobacco control contacts and affiliate membership. Provide links to websites that would be useful to ASTHO's constituents.

g. Develop an annual action plan and SMART (specific, measurable, achievable, realistic and time-phased) objectives. Develop a mechanism for evaluating overall effectiveness of the plan.

h. Provide a full-time staff person to coordinate and oversee the project.

2. CDC Activities

a. Provide consultation and technical assistance in the planning, implementation and evaluation of program activities.

b. Provide up-to-date information that includes diffusion of best practices and current research and data in the areas of tobacco use and chronic disease prevention and control.

c. Collaborate in the planning and support of workshops, conferences, and other professional gatherings that serve a public health purpose, and provide speakers for meetings that are national in scope.

d. Provide analytical expertise and assist in preparation of material for publication that includes information on State tobacco prevention and control activities.

e. Provide technical assistance to ASTHO and its affiliates regarding tobacco control and chronic disease programs and policies.

E. Application Content

Use the information in the Program Requirements, Other Requirements, and Evaluation Criteria section to develop the application content. Your application will be evaluated on the criteria listed, so it is important to follow them in laying out your program plan. The narrative should be no more than 50 pages double-spaced pages, printed on one side, with one inch margins, and unreduced font.

1. Provide a description of the tobacco and chronic disease prevention and control activities performed and the results achieved during the previous project period which started in fiscal year 1997.

2. Identify strategies and activities for increasing ASTHO's involvement in promoting and supporting comprehensive tobacco and chronic disease prevention and control programs over the next five years.

3. Describe how ASTHO's affiliate members will be involved with ASTHO's tobacco and chronic disease prevention and control activities.

4. Describe how the Tobacco Control Resource Council will facilitate communication between tobacco control managers and SHO's.

5. Provide an Annual Action Plan that includes objectives that are specific, measurable, achievable, relevant and time-phased. Objectives must relate to CDC's National Tobacco Control Program objectives (four goal areas) and the elements listed under the “Recipient Activities” section of this announcement.

6. Define and provide an operational plan for each activity necessary to achieve the objectives.

7. Provide an evaluation plan that clearly describes the methods proposed to evaluate each objective.

Measurements must be established to evaluate the level of achievement of all project objectives and elements listed under the “Recipient Activities” section of this announcement.

8. Provide an organizational chart highlighting line and staff authority. Include a description of the activities for each position.

9. Submit a detailed budget and line-item justification that is consistent with the purpose of the program and the proposed project objectives.

F. Submission and Deadline

Application

Submit the original and two copies of PHS 5161-1 (OMB 0937-0189). Forms are available at the following Internet address: http://www.cdc.gov/. Forms, or in the application kit. On or before June 23, 2000, submit the application to the Grants Management Specialist identified in the “Where to Obtain Additional Information” section of this announcement.

Deadline: Applications shall be considered as meeting the deadline if it is either:

(a) Received on or before the deadline date; or

(b) Sent on or before the deadline date and received in time for submission to the independent review group. (The applicants must request a legibly dated U.S. Postal Service postmark, or obtain a legibly dated receipt from a commercial carrier or U.S. Postal Service. Private metered postmarks shall not be acceptable as proof of timely mailing).

Late Application: The application which does not meet the criteria in (a) or (b) above is considered a late application, will not be considered, and will be returned to the applicant.

G. Evaluation Criteria (100 Points)

Each application will be evaluated individually against the following criteria by an independent review group appointed by CDC:

1. Five-year Vision (15 Percent)

The extent to which the applicant articulates its vision, seeks meaningful changes for a five year period, and ties the vision to the Healthy People 2010 Objectives.

2. Annual Action Plan (30 percent)

a. The extent to which the objectives are realistic and related to identified needs and purpose of the program.

b. The extent to which activities are realistic and feasible and will help accomplish the objectives.

c. The extent to which there are realistic plans to promote and foster support for comprehensive Tobacco Control Programs and chronic disease prevention and control programs to raise tobacco and chronic disease prevention and control as a priority within ASTHO and among State health officials, affiliates, and other key partners.

3. Project Management and Staffing Plan (30 Percent)

a. The extent to which the applicant identifies staff that have the responsibility, capability, and authority to carry out the activities, as evidenced by job descriptions, and curriculum vitae.

b. The extent to which the plan to manage the project and to overcome challenges is logical, resourceful, and adequate to accomplish the purpose of the project.

4. Evaluation (25 Percent)

The extent to which the applicant realistically and adequately proposes to measure progress in tracking and meeting objectives and presents a reasonable plan for obtaining data, reporting the results and using the results for programmatic decisions.

5. Budget and Accompanying Justification (Not Scored)

The extent to which the budget is reasonable, itemized, clearly justified and consistent with the work plan and intended use of funds.

H. Other Requirements

Technical Reporting Requirements

Provide CDC with the original plus two copies of:

1. Progress reports (semiannual)

2. Financial status report, no more than 90 days after the end of the budget period.

3. Final financial and performance reports, no more than 90 days after the end of the project period.

Send all reports to the Grants Management Specialist identified in the “Where to Obtain Additional Information” section of this announcement.

The following additional requirements are acceptable to this program. For a complete description of each, see Attachment I in the application kit.

AR-7—Executive Order 12372 Review

AR-9—Paperwork Reduction Act Requirements

AR-11—Health People 2010

AR-12—Lobbying Restrictions

I. Authority and Catalog of Federal Domestic Assistance Number

This program is authorized by Section 317(k)(2) [42 U.S.C. 247b(2)], Section 301 of the Public Health Service Act, as amended. The Catalog of Federal Domestic Assistance Number is 93.283.

J. Where To Obtain Additional Information

This and other CDC announcements can be found on the CDC Homepage Internet address: http://www.cdc.gov click on “Funding” then “Grants and Cooperative Agreements.”

Business management technical assistance may be obtained from: Kimberly Pope, Grants Management Specialist, Grants Management Branch, Procurement and Grants Office, Centers for Disease Control and Prevention, Announcement Number 00087, 2920 Brandywine Road, Room 3000, Atlanta, GA 30341-4146, Telephone number: (770) 488-2767, FAX: (770) 488-2777, Email address: kgp6@cdc.gov

Program technical assistance may be obtained from: Barbara Park, Project Officer, Program Services Branch, Office on Smoking and Health, Centers for Disease Control and Prevention, 4770 Buford Hwy., NE, Telephone number: (770) 488-1249, FAX: (770) 488-1147, Email address: bzp@cdc.gov

Dated: May 24, 2000.
John L. Williams,
Director, Procurement and Grants Office, Centers for Disease Control and Prevention (CDC).

[FR Doc. 00-13647 Filed 5-31-00; 8:45 am]

BILLING CODE 4163-18-P